DEPARTMENT OF TRANSPORTATION

Research and Special Programs Administration

Office of Hazardous Materials Safety; Notice of Application for Exemptions

AGENCY: Research and Special Programs Administration, DOT.

ACTION: List of applications for exemption.

SUMMARY: In accordance with the procedures governing the application for, and the processing of, exemptions from the Department of Transportation's Hazardous Material Regulations (49 CFR part 107, subpart B), notice is hereby given that the Office of Hazardous Materials Safety has received the application described herein. Each mode of transportation for which a particular exemption is requested is indicated by a number in the “Name of Application” portion of the table below as follows: 1—Motor vehicle, 2—Rail freight, 3—Cargo vessel, 4—Cargo aircraft only, 5—Passenger-carrying aircraft.

DATES: Comments must be received on or before October 25, 2004.

ADDRESSES: Address Comments To: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the application are available for inspection in the Records Center, Nassif Building, 400 7th Street, SW., Washington, DC or at http://dms.dot.gov.

This notice of receipt of applications for modification of exemption is published in accordance with part 107 of the Federal hazardous materials transportation law (49 U.S.C. 5117(b); 49 CFR 1.53(b)).

Issued in Washington, DC, on September 27, 2004.
R. Ryan Posten,
Exemption Program Officer, Office of Hazardous Materials Safety Exemptions and Approvals.

New Exemption
Application No. | Docket No. | Applicant | Regulation(s) affected | Nature of exemption thereof
13856-N |  | Dow Chemical Company, Midland MI | 49 CFR 172.203(a); 173.26 and 179.13 | To authorize the manufacture and use of DOT class 111S tank cars exceeding the presently authorized weight limit for use in transporting Class 3 materials. (mode 2.)
13858-N |  | US Ecology Idaho, Inc. (USEI) Grand View, ID | 49 CFR 173.427(b) | To authorize the transportation in commerce of exclusive use shipments of bulk soil-like radioactive LSA-II waste material in covered dump trucks. (mode 1.)
13859-N |  | Degussa Corporation, Parsippany, NJ | 49 CFR 177.848 | To authorize the transportation in commerce of certain hazardous materials to be transported together in the same transport vehicle.
13860-N |  | United States Enrichment Corporation (USEC), Paducah, KY | 49 CFR 173.420(a)(3)(ii) and (iii) | To authorize the transportation in commerce of non-specification DOT cylinders for use in transporting uranium hexafluoride, class 7. (mode 1.)
13876-N |  | City of Kotzebue, Kotzebue, AK | 49 CFR 173.159 | To authorize the transportation in commerce of wet batteries for disposal to be transported in non-DOT specification packaging. (modes 4, 5.)
13896-N |  | FIBA Technologies, Inc., Westboro, MA | 49 CFR 180.211 | To authorize the repair of DOT-3 series cylinders by external re-threading of the cylinder neck. (modes 1, 6.)

[FR Doc. 04-21379 Filed 9-22-04; 8:45 am]

BILLING CODE 4909-60-M